INTERNATIONAL TRADE COMMISSION

[Inv. No. 337-TA-490]

In the Matter of Certain Power Amplifier Chips, Broadband Tuner Chips, Transceiver Chips, and Products Containing Same; Notice of Correction

AGENCY: International Trade Commission.

ACTION: Correction of notice of investigation.

SUMMARY: Due to a typographical error, the Commission's notice published in the Federal Register on April 4, 2003 (68 F.R.16551) incorrectly stated that the complaint was filed on March 3, 2002. The corrected date is March 3, 2003.

By order of the Commission.

Issued: April 4, 2003.
Marilyn R. Abbott,
Secretary to the Commission.

[FR Doc. 03-8652 Filed 4-8-03; 8:45 am]

BILLING CODE 7020-02-P